DEPARTMENT OF DEFENSE

Department of the Air Force

[Docket ID USAF-2020-HQ-0009]

Proposed Collection; Comment Request

AGENCY: The Office of the Assistant Secretary of the United States Air Force, Department of Defense (DoD).

ACTION: Information collection notice.

SUMMARY: In compliance with the Paperwork Reduction Act of 1995, the National Museum of the United States Air Force, Special Events Division, Volunteer Resources Office announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by July 28, 2020.

ADDRESSES: You may submit comments, identified by docket number and title, by any of the following methods:

Federal eRulemaking Portal: http://www.regulations.gov. Follow the instructions for submitting comments.

Mail: DoD cannot receive written comments at this time due to the COVID-19 pandemic. Comments should be sent electronically to the docket listed above.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to National Museum of the United States Air Force (NMUSAF/MUS-VR), ATTN: David C. Thomas, 1100 Spaatz St., WPAFB OH 45433; 937-255-1743 (david.thomas.11@us.af.mil); Amanda Austin, 937-255-4633, (amanda.austin.6@us.af.mil).

SUPPLEMENTARY INFORMATION:

Title; Associated Form; and OMB Number: United States Air Force Museum System Volunteer Application/Registration; OMB Control Number 0701-0127.

Needs and Uses: The information collection requirement is necessary to provide (a) the general public an instrument to interface with the USAF Heritage Program Volunteer Program; (b) the USAF Heritage Program the means with which to select respondents pursuant to the USAF Heritage Program Volunteer Program. The primary use of the information collection includes the evaluation and placement of respondents within the USAF Heritage Program Volunteer Program.

Affected Public: Individuals or households.

Annual Burden Hours: 68.3.

Number of Respondents: 273.

Responses per Respondent: 1.

Annual Responses: 273.

Average Burden per Response: 15 minutes.

Frequency: On occasion.

Respondents are individuals from the general public applying to become a volunteer with the USAF Heritage Program/National Museum of the United States Air Force. The completed Air Force IMT 3569 applications are reviewed and processed by the Volunteer Program Manager for consideration and placement into the Volunteer Program. If the form is not completed the Volunteer Resource Office has no meaningful and consistent way to select volunteers and match applicant skills and desires with individual museum needs.

Dated: May 22, 2020.
Aaron T. Siegel,
Alternate OSD Federal Register Liaison Officer, Department of Defense.

[FR Doc. 2020-11531 Filed 5-27-20; 8:45 am]

BILLING CODE 5001-05-P